DEPARTMENT OF THE INTERIOR

National Park Service

National Register of Historic Places;Notification of Pending Nominations

Nominations for the following properties being considered for listing in the National Register were received by the National Park Service before May 13, 2000. Pursuant to section 60.13 of 36 CFR part 60 written comments concerning the significance of these properties under the National Register criteria for evaluation may be forwarded to the National Register, National Park Service, 1849 C St. NW, NC400, Washington, DC 20240. Written comments should be submitted by June 8, 2000.

Carol D. Shull,
Keeper of the National Register.

ARKANSAS

Bradley County

New Zion AME Zion Church, Jct. of Myrtle and Neely Sts., Warren, 00000628

Greene County

Big Slough Ditch Bridge, (Historic Bridges of Arkansas MPS) Co. Rd. 855, Brighton, 00000629

Hot Spring County

Burks Service Station, (Arkansas Highway History and Architecture MPS) Jct. of Page Ave. and Sullenberger, Malvern, 00000630

Lawrence County

US 63 Black River Bridge, (Historic Bridges of Arkansas MPS) US 63, Black Rock, 00000631

Marion County

US 62 Bridge over Crooked Creek, (Historic Bridges of Arkansas MPS) US 62, Pyatt, 00000632

Ouachita County

Laney, Ben, Bridge, (Historic Bridges of Arkansas MPS) US 79B over Ouachita River, Camden, 00000633

Oakland Cemetery, 100 Blk. of Maul Rd. bounded by Pearl St. and Madison Ave., Camden, 00000634

Pike County

Self Creek Bridge, (Historic Bridges of Arkansas MPS) US 70 across Self Cr. and Lake Greeson, Daisy, 00000635

Polk County

Studebaker Showroom, (Arkansas Highway History and Architecture MPS) 519 Port Arthur, Mena, 00000636

Washington County

Washington County Road 35 Bridge, (Historic Bridges of Arkansas MPS) Co. Rd. 35, Woolsey, 00000637

FLORIDA

Marion County

Armstrong House, 18050 US 301 N., Citra, 00000638

GEORGIA

De Kalb County

Cheek—Spruill House, 5455 Chamblee—Dunwoody Rd., Dunwoody, 00000639

ILLINOIS

Lake County

Camp Logan National Guard Rifle Range Historic District, Illinois Beach State Park, Zion, 00000640

MASSACHUSETTS

Norfolk County

Colburn School—High Street Historic District, 369-649, 390-680 High St., Westwood, 00000641

MICHIGAN

Huron County

Olgilvie Building, (Port Hope MPS) 4443 Main St., Port Hope, 00000642

Jackson County

Kennedy, Frederick A., Jr., and Caroline Hewett, Farm, 8490 Hanover Rd. (Hanover Township), Hanover, 00000643

Manistee County

Camp Tosebo, 7228 Miller Rd. (Onekama Township), Red Park, 00000644

Oakland County

Holly Union Depot, 223S. Broad St., Holly, 00000645

Western Knitting Mills, 400 Water St., Rochester, 00000646

Wayne County

Bradford, Benjamin and Mary Ann, House, (Canton Township MPS) 48145 Warren Rd., Canton, 00000648

Kinyon, Orrin, and Roxanne Fairman, House, (Canton Township MPS) 7675 N. Ridge Rd., Canton, 00000649

Patterson, John, and Eliza Barr, House, (Canton Township MPS) 6205 N. Ridge Rd., Canton, 00000647

NEW HAMPSHIRE

Cheshire County

Lawrence Farm, 9 Lawrence Rd., Troy, 00000650

Hillsborough County

Hamblet—Putnam—Frye House, 293 Burton Hwy., Wilton, 00000651

Merrimack County

Downtown Concord Historic District, Roughly bounded by Center St., Loudon Rd., Storrs St., Hills Ave., S. State, Green, School, Capitol, and Park Sts., Concord, 00000652

NEW JERSEY

Morris County

Illumination Gas Plant of the New Jersey State Asylum for the Insane at Morris Plains, Old Dover Rd., Parsippany, 00000653

OKLAHOMA

Beckham County

Sayre Rock Island Depot, 106 E. Poplar, Sayre, 00000654

Oklahoma County

St. Stephen's Episcopal Church, 812 Blaine Ave., Chandler, 00000655

TEXAS

Anderson County

Freeman Farm, Co. Rd. 323, 3 miles SE. of Frankston, Frankston, 00000656

A Request for Removal has been made for the following resources:

MINNESOTA

Dodge County

Holtermann, Andrew, House (Dodge County MRA), SR 30, S side, Vernon Township, 82002940

PENNSYLVANIA

Berks County

Astor Theatre, 730-742 Penn St., Reading, 78002342

[FR Doc. 00-12996 Filed 5-23-00; 8:45 am]

BILLING CODE 4310-70-P